DEPARTMENT OF TRANSPORTATION

Pipeline and Hazardous Materials Safety Administration

[Docket No. RSPA-98-4470]

Pipeline Safety: Meetings of the Pipeline Safety Advisory Committees

AGENCY: Office of Pipeline Safety (OPS), Pipeline and Hazardous Materials Safety Administration (PHMSA), Department of Transportation (DOT).

ACTION: Notice of meetings.

SUMMARY: This notice announces public meetings of Pipeline and Hazardous Materials Safety Administration's (PHMSA) Technical Pipeline Safety Standards Committee (TPSSC) and Technical Hazardous Liquid Pipeline Safety Standards Committee (THLPSSC) to discuss various regulatory issues.

DATES: The technical pipeline safety advisory committees will meet in joint session on Wednesday, June 15 and Thursday, June 16, 2005, from 8 a.m. to 4 p.m. each day.

ADDRESSES: The meetings will be held at the Ritz-Carlton Hotel (Pentagon City), 1250 South Hayes Street, Arlington, VA 22202, www.@ritzcarlton.com. The phone number for reservations at the Ritz Carlton is 1-800-241-3333 or (703) 415-5000. Attendees staying at the hotel must make reservations by Tuesday, May 31.

FOR FURTHER INFORMATION CONTACT: For additional information regarding these meetings contact: Cheryl Whetsel, OPS, (202) 366-4431; cheryl.whetsel@dot.gov.

Background: Reservations by attendees must be received on or before May 31, 2005. Priority is given to the Technical Pipeline Safety Advisory Committee members and State Pipeline Safety Representatives for rooms blocked under the Department of Transportation-Advisory Committee Meeting. Any additional information or changes will be posted on the OPS web page approximately 15 days before the meeting date at http://ops.dot.gov.

The public may make short statements on the topics under discussion. Anyone wishing to make an oral statement should notify Cheryl Whetsel, (202) 366-4431, not later than May 31, 2005, on the topic and the length of the presentation. The presiding officer at each meeting may deny any request to present an oral statement and may limit the time of any presentation.

You may submit written comments by mail or deliver them to the Dockets Facility, U.S. Department of Transportation, Room PL-401, 400 Seventh Street, SW., Washington, DC 20590-0001. It is open from 9 a.m. to 5 p.m., Monday through Friday, except Federal holidays. You also may submit written comments to the docket electronically by logging onto the following Internet Web address: http://dms.dot.gov. Click on AHelp & Information” for instructions on how to file a document electronically. All written comments should reference docket number RSPA-98-4470. Anyone who would like confirmation of mailed comments must include a self-addressed stamped postcard.

Anyone is able to search the electronic form of all comments received into any of our dockets by the name of the individual submitting the comment. You may review DOT's complete Privacy Act Statement in the Federal Register published on April 11, 2000 (Volume 65, Number 70; Pages 19477-78) or you may visit http://dms.dot.gov.

Information on Services for Individuals With Disabilities

For information on facilities or services for individuals with disabilities or to request special assistance at the meeting, please contact Cheryl Whetsel at (202) 366-4431 by May 31, 2005.

SUPPLEMENTARY INFORMATION: The TPSSC and THLPSSC are statutorily mandated advisory committees that advise the PHMSA, OPS on proposed safety standards for gas and hazardous liquid pipelines. These advisory committees are established under section 10(a)(2) of the Federal Advisory Committee Act (Pub. L. 92-463, 5 U.S.C. App. 1). The committees consist of 15 members—five each representing government, industry, and the public. The TPSSC and THLPSSC are tasked with determining reasonableness, cost-effectiveness, and practicability of regulatory initiatives.

The purpose of the meeting is to discuss future challenges facing the pipeline industry and options for direction on key projects. The discussion will focus on three areas:

• Managing Risk and Integrity.

• Sharing Responsibility and Building Alliances for Safety.

• Improving Our Stewardship of the Environment, Security.

The OPS will provide an overview on the topics that we will be exploring in each of the subtopics. Under each subtopic, several questions are provided to promote discussion. The agenda follows:

Wednesday, June 15 (8 a.m. to 4 p.m.)

Managing Risk and Integrity

The OPS's primary responsibility is to use a risk based, performance driven approach to protect the 2.3 million miles of natural gas, petroleum, and other pipelines that crisscross our Nation.

These pipelines transport two thirds of the energy supply used by American consumers each year. We carry out this responsibility by identifying safety problems, determining whether standards need to change and how much, enforcing the safety standards, and evaluating whether we are meeting our safety goals.

1. Inspection Technology and Quality Assurance

• How do we ensure that technology is applied to get credible results?

• Are the national consensus standards sufficient for tool selection and qualification of pig log interpreters?

• Is there a need for additional industry standards?

• Will these consensus standards solve problems in the future in other subject areas?

2. Pilot Operator Relief Valve Advisory Notice

• Is the process outlined in the advisory an appropriate approach to address the inspection of relief valves?

3. Human Factors

• What have we learned from the experience of other modes about human factors?

• How do human factors affect the performance of pipeline operators?

• What evidence do we have that human factors may contribute to incidents?

• Is the advice from other modes generally applicable?

4. Distribution Integrity Management Program (DIMP)

• Does the current plan draw data from all key areas?

• What are your views on including the decision to install and maintain excess flow valves in DIMP?

• Should OPS give special consideration to the small operators in DIMP implementation, master meter operators and liquefied petroleum gas (LPG) operators?

5. Liquid Gathering Lines

• Is the “integrity” approach of protecting pipelines that could affect unusually sensitive areas (USA's) appropriate?

• What safety functions are appropriate or needed?

Thursday, June 16 (8 a.m. to 4 p.m.)

Sharing Responsibility and Building Alliances for Safety

The OPS seeks out partnerships with all of our stakeholders. Each provides unique experiences and information to augment our efforts to keep the people and the environment safe. One example of a successful partnership, between the OPS and the National Association of Fire Marshals, is the production of a video, Pipeline Emergencies, that will provide emergency personnel, state and local officials and others an overview of the pipeline system. There are many safety roles to play and some have yet to be identified.

1. Common Ground Alliance (CGA)—Virginia Experience

• Do you believe enforcement will be necessary for damage prevention?

• How do we improve effectiveness of the one-call system and what is the role of technology?

• How can we apply the Virginia experience in other areas (i.e., distribution integrity management)?

2. High Consequence Area (CCA) Pilots

• Is there a way of using partnerships to expand damage prevention, emergency preparedness and response?

• Are there key partners missing? If so, how do we enlist them, such as in the areas of emergency preparedness, encroachment, etc.?

• Should this best practice model be introduced to all States?

3. Liquefied Natural Gas (LNG)

• Is PHMSA/OPS doing all it should to educate communities about LNG?

Show Video Clip—Liquefied Natural Gas

Pipeline Information Planning Alliance (PIPPA)

• How do we approach home builders and insurers?

Improving Our Stewardship in Environmental and Energy Projects

The OPS is the Federal pipeline safety expert and recognizes how important it is to share its expertise with other government and State agencies responsible for supporting our government's national energy policies. OPS also provides information and assists other government and State agencies responsible for protecting our Nation's pipeline system.

1. Permit Streamlining

• How do we introduce our concepts to State and local agencies?

• What is the most efficient way to develop best practices?

• How could we effectively use and improve on developing best practices during implementation of the second pilot program?

2. Alaska

• Are OPS's current pipeline safety regulations aligned and applicable for the new technologies and materials being proposed for the Alaska North Slope gas transmission pipeline?

• What changes need to be made to ensure the optimum delivery rate from Alaska, through Canada, and into the lower 48 States?

3. Security

• How can OPS ensure continuing pipeline security in the current environment?

• What is OPS doing for pipeline security?

Authority: 49 U.S.C. 60102, 60115.

Issued in Washington, DC on May 18, 2005.
Theodore L. Willke,
Deputy Associate Administrator, Office of Pipeline Safety.

[FR Doc. 05-10275 Filed 5-19-05; 10:32 am]

BILLING CODE 4910-60-P